Proclamation 9872 of April 30, 2019

Law Day, U.S.A., 2019

By the President of the United States of America

A Proclamation

On Law Day, we renew our commitment to the rule of law and our Constitution. The rule of law requires that no one be above the obligations of the law or beneath its protections, and it stands as a bulwark against the arbitrary use of government power.

Our Founding Fathers knew that to secure liberty our Government must be one of laws and not the whims of officeholders. “The true idea of a republic,” wrote John Adams, “is an empire of laws, and not of men.” The Constitution, therefore, granted only limited power to the Federal Government, leaving the remainder to the States, and divided the Federal powers between three separate, co-equal branches. This separation of powers has helped guarantee the rule of law and preserve liberty for generations.

Each branch of the Federal Government takes an oath to uphold the Constitution and laws of the United States and thus is duty bound to the rule of law. That is why my Administration continues to fight the issuance of improper injunctions by Federal district courts, which enable a single district court judge to dictate law to the entire country and undermine the separation of powers. We are also eliminating unnecessary and burdensome regulations to help limit the intrusion of unaccountable regulators into the lives of American citizens. Additionally, I have taken action to ensure that public universities are fulfilling their obligation to uphold the First Amendment. In March, I signed an Executive Order that directs Federal agencies to ensure that public universities receiving Federal research or education grants are promoting free inquiry and not stifling open debate.

On this Law Day, I encourage all Americans to take time to express appreciation for how the rule of law helps protect our rights, including the freedoms of religion, speech, and the press. Today, we reflect on the many sacrifices our American forebearers made to secure and defend these rights for their posterity, and we aspire to be equally as dedicated to preserving them for future Americans.

NOW, THEREFORE, I, DONALD J. TRUMP, President of the United States of America, in accordance with Public Law 87-20, as amended, do hereby proclaim May 1, 2019, as Law Day, U.S.A. I urge all Americans, including government officials, to observe this day by reflecting upon the importance of the rule of law in our Nation and displaying the flag of the United States in support of this national observance; and I especially urge the legal profession, the press, and the radio, television, and media industries to promote and to participate in the observance of this day.

IN WITNESS WHEREOF, I have hereunto set my hand this thirtieth day of April, in the year of our Lord two thousand nineteen, and of the Independence of the United States of America the two hundred and forty-third.

[FR Doc. 2019-09326

Filed 5-3-19; 8:45 am]

Billing code 3295-F9-P